DEPARTMENT OF ENERGY

Federal Energy Regulatory Commission

[Docket No. RP03-400-001]

Midwestern Gas Transmission Company; Notice of Compliance Filing

July 2, 2003.

Take notice that on June 27, 2003, Midwestern Gas Transmission Company (Midwestern) tendered for filing to become part of its FERC Gas Tariff, Third Revised Volume No. 1, Substitute Fourth Revised Sheet No. 272, effective July 1, 2003.

Midwestern states that the purpose of this filing is to comply with the Commission's uncited letter order at docket RP03-400-000 dated June 20, 2003, wherein the Commission directed Midwestern to revise its tariff to reflect that NAESB WGQ Standards 5.3.7, 5.3.41, 5.3.42, 5.3.46, and 5.3.48 refer to Recommendation R02002 and NAESB WGQ Data Sets 1.4.4, 5.4.1, 5.4.3, 5.4.4, 5.4.7, and 5.4.9 refer to both Version 1.6 of the NAESB WGQ Standards and Recommendation R02002. This filing also incorporates by reference NAESB WGQ Standard 2.3.29, which was not included in the initial filing in this proceeding.

Midwestern states that copies of this filing have been sent to all of Midwestern 's contracted shippers and interested state regulatory commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 8, 2003.

Magalie R. Salas,
Secretary.

[FR Doc. 03-18942 Filed 7-24-03; 8:45 am]

BILLING CODE 6717-01-P